DEPARTMENT OF DEFENSE

Department of the Army

Release of the Notice of Availability (NOA) on the Supplemental Draft Environmental Impact Statement (EIS) on the Disposal and Reuse of the Oakland Army Base, Oakland, CA

AGENCY: Department of the Army, DoD.

ACTION: Notice of availability.

SUMMARY: This Supplemental Draft EIS was prepared by the Army in compliance with the National Environmental Policy Act (NEPA) of 1969 and the President's Council on Environmental Quality. The closure of the Oakland Army Base, Oakland, California (OARB) was mandated in accordance with the recommendations of the Defense Base Closure and Realignment Act of 1990, Public Law 101-510, as amended (the “BRAC law”. The NOA on the Army's original Draft EIS was published on November 19, 1999 (64 FR 63313). From January 2000 through May 2001, the Oakland Base Reuse Authority (OBRA) revised its Final Draft Reuse Plan to accommodate local planning requirements, resulting in an Amended Draft Final Reuse Plan. This Supplemental Draft EIS is prepared to address the analysis required of the OBRA Amended Draft Final Reuse Plan.

DATES: The review period for the Supplemental Draft EIS will end 45 days after publication of the NOA in the Federal Register by the U.S. Environmental Protection Agency.

ADDRESSES: Questions and/or written comments regarding the Supplemental Draft EIS, or a request for a copy of the document may be directed to: Dr. Robert L. Koenigs, U.S. Army Corps of Engineers, Sacramento District (CESPK-PD), 1325 J Street, Sacramento, California 95814-2922.

FOR FURTHER INFORMATION CONTACT: Dr. Robert L. Koenigs at (916) 557-6712; by facsimile at (916) 557-7856; or by e-mail at rkoenigs@spk.usace.army.mil.

SUPPLEMENTARY INFORMATION: The Supplemental Draft EIS analyzes three alternative courses of action with respect to the disposal and subsequent reuse of the 425 acres (371 land acres and 54 submerged land acres) comprising the OARB: (1) The no action disposal alternative, under which the property would be maintained in a caretaker status after closure; (2) the unencumbered disposal alternative, under which the Army would transfer the property without encumbrances, such as environmental restrictions and easements; and (3) the encumbered disposal alternative, under which the Army would transfer the property with various environmental restrictions and easements, limiting the future use of the property. The Supplemental Draft EIS also analyzes the potential environmental and socioeconomic consequences of a range of community reuse alternatives: (1) Low intensity reuse alternative; (2) low-medium intensity reuse alternative; (3) medium intensity reuse alternative; (4) medium-high intensity reuse alternative; (5) medium-high/high intensity reuse alternative; (6) high intensity reuse alternative; and (7) very-high intensity reuse alternative.

This Supplemental Draft EIS concludes the no action alternative is not reasonable because the BRAC law mandates closure of the OARB, and the Army has no requirement to retain the property. This Supplemental Draft EIS also concludes that the unencumbered disposal alternative is not feasible given environmental conditions and legal requirements.

The Army's preferred alternative course of action is the encumbered disposal of excess property. Possible encumbrances include: covenants and restrictions pertaining to asbestos-containing material; lead-based paint; biological resources; historic properties; future remedial activities after transfer; infrastructure easements; and rights-of-way.

This Supplemental Draft EIS analyzes community reuse of the OARB property as a secondary action resulting from closure and disposal by the Army. While the Army does not control the community's reuse of the property, under NEPA, the Army is required to analyze the reasonably foreseeable impacts of its disposal action. The local community has established the OBRA to develop and implement a reuse plan for the installation. Approval and implementation of the reuse plan are within the discretion of the OBRA.

In response to required local coordination of federal projects under the Coastal Zone Management Act (CZMA), the San Francisco Bay Conservation and Development Commission (BCDC) indicated that the Final Draft Reuse Plan inconsistently allocated non-maritime uses to “port priority use areas” as designated under the San Francisco Bay Plan and Seaport Plan, the key planning documents of the San Francisco Coastal Zone Management Program (CZMP). To ensure proper compliance with the CZMP and CZMA, the Army temporarily suspended the NEPA process while OBRA, in consultation with the Port of Oakland, City of Oakland, Oakland Redevelopment Agency, and BCDC, worked to revise its Final Draft Reuse Plan and request an amendment to the Bay and Seaport Plans. In April 2001, the OBRA Governing Body approved an Amended Draft Final Reuse Plan. The BCDC also amended the Bay Plan and Seaport Plan to allow some areas originally designated “port priority use areas” to be used for non-maritime purposes. In May 2001, the BCDC agreed with the Army's determination that the proposed disposal and reuse of the OARB under the Amended Draft Final Reuse Plan is consistent with the amended Bay and Seaport Plans, and meets the requirements of the CZMP and CZMA. The detailed analysis of the incorporated Amended Final Draft Reuse Plan has been included as a new chapter in the Supplemental Draft EIS to accommodate public review and comment.

Comments on the Supplemental Draft EIS received during the 45-day public comment period will be considered in preparing the Army's Final EIS and Record of Decision. Copies of the Supplemental Draft EIS are available for review at the following libraries: (1) Oakland Public Library Main Branch, Science, Social Science and Documents Section, 125 Fourteenth Street, Oakland, California 94612; (2) West Oakland Branch Library, 1801 Adeline Street, Oakland, California 94607; and (3) Base Transition Office, 2475-D West 12th Street, Oakland, California 94607.

Dated: July 20, 2001.
Raymond J. Fatz,
Deputy Assistant Secretary of the Army (Environment, Safety and Occupational Health) OASA (I&E).

[FR Doc. 01-18730 Filed 7-26-01; 8:45 am]

BILLING CODE 3710-08-M